COMMITTEE FOR PURCHASE FROM PEOPLE WHO ARE BLIND OR SEVERELY DISABLED

Public Meeting

AGENCY: Committee for Purchase From People Who Are Blind or Severely Disabled.

ACTION: Notice of public meeting.

SUMMARY: The Committee is announcing a public meeting to be held July 8, 2021.

DATES: Registration is due no later than: July 6, 2021.

ADDRESSES: Committee for Purchase From People Who Are Blind or Severely Disabled, 1401 S. Clark Street, Suite 715, Arlington, Virginia, 22202-4149.

FOR FURTHER INFORMATION CONTACT: For further information or to submit comments contact: Angela Phifer, Telephone: (703) 798-5873 or email CMTEFedReg@AbilityOne.gov.

SUPPLEMENTARY INFORMATION: This notice is published pursuant to 41 U.S.C. 8503 (a)(2) and 41 CFR 51-2.3. Its purpose is to provide interested persons an opportunity to register to attend a public meeting.

Summary: This notice is published pursuant to 41 U.S.C. 8503(a)(2) and 41 CFR 51-2.3. Its purpose is to provide interested persons an opportunity to register to attend a public meeting.

This notice provides information to access and participate in the July 8, 2021 regular quarterly public meeting of the Committee for Purchase From People Who Are Blind or Severely Disabled, operating as the U.S. AbilityOne Commission (Commission), via webinar. The Commission oversees the AbilityOne Program, which provides employment opportunities through federal contracts for people who are blind or have significant disabilities in the manufacture and delivery of products and services to the Federal Government. The Javits-Wagner-O'Day Act (41 U.S.C. chapter 85) authorizes the contracts and established 15 Presidential appointees, including private citizens conversant with the employment interests and concerns of people who are blind or significantly disabled. Presidential appointees also include representatives of federal agencies. The public meetings include updates from the Commission and staff.

Date and Time: July 8, 2021, from 9:00 a.m. to 12:00 p.m., EDT.

Place: This meeting will occur via Zoom webinar.

Commission Statement: As the Commission implements new strategies and priorities, we are committed to public meetings that provide substantive information. These meetings also provide an opportunity for input from the disability community and other stakeholders. On July 8, 2021, the Commission meeting agenda will include an update on “Ratio Calculation Recommendations of the 898 Panel,” including a recommendation found in the FY2017 NDAA Section 898 “Panel on Department of Defense and AbilityOne Contracting Oversight, Accountability and Integrity” Third Annual Report to Congress. The recommendation is: “Amend the JWOD Act's 75 percent Direct Labor Hour ratio requirement, 41 U.S.C. 8501(6)(C), (7)(C), to promote employment and upward mobility of individuals with disabilities in integrated work environments, and provide for implementation requirements and guidelines.”

Registration: Attendees must register not later than 11:59 p.m. EDT on Tuesday, July 6, 2021. The registration link will be accessible on the Commission's home page, www.abilityone.gov, not later than Monday, June 21, 2021. During registration, you may choose to submit comments or a statement. Comments submitted via the registration link will be shared with the Commission members prior to the meeting. Comments posted in the chat box during the meeting will be shared with the Commission members after the meeting.

Personal Information: Do not include any personally identifiable information that you do not want publicly disclosed—e.g., address, phone number or other contact information, or confidential business information.

For Further Information Contact: Angela Phifer, (703) 798-5873.

The Commission is not subject to the requirements of 5 U.S.C. 552b; however, the Commission published this notice to encourage the broadest possible participation in its April 8, 2021 public meeting.

Michael R. Jurkowski,
Deputy Director, Business Operations.

[FR Doc. 2021-13350 Filed 6-23-21; 8:45 am]

BILLING CODE 6353-01-P